DEPARTMENT OF ENERGY

Notice of Request for Information (RFI) on Collection, Transportation, Sorting, Processing and Second Life Applications for End-of-Life Lithium Ion Batteries

AGENCY: Office of Manufacturing and Energy Supply Chains; Office of Energy Efficiency and Renewable Energy; Department of Energy.

ACTION: Request for information.

SUMMARY: The U.S. Department of Energy (DOE) invites public comment on its request for information (RFI) number DE-FOA-DE-FOA-0002833 to help inform DOE's implementation of the lithium-ion battery recycling programs funded by the Infrastructure Investment and Jobs Act, also commonly known as the Bipartisan Infrastructure Law (BIL). This RFI covers the lithium-ion battery recycling programs described in BIL. Specifically, this RFI seeks input on how federal investments can help accelerate the collection, transportation, processing, and recycling of batteries and scrap materials; enable second-life applications of lithium-ion batteries previously used to power electric vehicles; support high-quality jobs for American worker; s and how the Program can most impactfully support equity, environmental, and energy justice principles and priorities.

DATES: Responses to the RFI must be received by October 14, 2022 by 5 p.m. eastern.

ADDRESSES: Comments to the RFI must be provided in writing. Interested parties are to submit their written comments electronically to BIL-Batterymanufacturing@hq.doe.gov and include “BIL-Battery Recycling RFI” in the subject line of the email. Email attachments can be provided as a Microsoft Word (.docx) file or an Adobe PDF (.pdf) file, prepared in accordance with the detailed instructions in the RFI. Documents submitted electronically should clearly indicate which topic areas and specific questions are being addressed and should be limited to no more than 25 MB in size. The complete RFI [DE-FOA-0002833] document is located at https://eere-exchange.energy.gov/.

FOR FURTHER INFORMATION CONTACT: Samuel Gillard, (202) 586-8055, BIL-Batterymanufacturing@hq.doe.gov. Further instructions can be found in the RFI document [DE-FOA-0002833] posted on EERE Exchange at https://eere-exchange.energy.gov/.

SUPPLEMENTARY INFORMATION: The BIL invests $335 million over the five-year period (Fiscal Years 2022-2026) in the lithium ion battery recycling programs outlined in Sections 40207 (e), 40207 (f)(2), (f)(3), (f)(4) and 40208. The purpose of this RFI is to solicit feedback from industry, manufacturers, minority-owned businesses, academia, research laboratories, institutes, government agencies, State and local officials, labor unions, Tribes, community-based organizations (CBOs), environmental justice organizations, retailers and other stakeholders on issues related to design and implementation of the Battery Recycling Provisions.

• Section 40207(e) titled Lithium-Ion Battery Recycling Prize covers the continuation of the Lithium-Ion Battery Recycling Prize Competition for additional rounds after completion of the current round.

• Section (f)(2) titled Battery Recycling Research, Development, and Demonstration Grants will total $60M for FY2022 to FY2026. DOE shall award multiyear grants to anticipated eligible entities for research, development, and demonstration projects to create innovative and practical approaches to increase the reuse and recycling of batteries.

• Section (f)(3) titled State and Local Programs will total $50M for the period of FY2022 to FY2026. It is anticipated that DOE shall establish a program which will award grants, on a competitive basis, to the following anticipated entities of States and units of local government to assist in the establishment or enhancement of State battery collection, recycling, and reprocessing programs.

• Section (f)(4) titled Retailers As Collection Points will total $15M for the period of FY2022 to FY2026. DOE shall award grants, on a competitive basis. It is anticipated that these grants will be restricted to retailers that sell covered batteries or covered battery-containing products to establish and implement a system for the acceptance and collection of covered batteries and covered battery-containing products, as applicable, for reuse, recycling, or proper disposal.

• Section 40208 titled Electric Drive Vehicle Battery Recycling and Second-Life Program will total $200M for the period of FY2022 to FY2026. The DOE shall carry out a program of research, development, and demonstration of second-life applications for electric drive vehicle batteries that have been used to power electric drive vehicles; technologies and processes for final recycling and disposal of the [electric drive vehicle batteries] Specific questions can be found in the RFI. The RFI [DE-FOA-0002833] is available at: https://eere-exchange.energy.gov/.

Confidential Business Information: Pursuant to 10 CFR 1004.11, any person submitting information that he or she believes to be confidential and exempt by law from public disclosure should submit via email two well-marked copies: one copy of the document marked “confidential” including all the information believed to be confidential, and one copy of the document marked “non-confidential” with the information believed to be confidential deleted. Submit these documents via email. DOE will make its own determination about the confidential status of the information and treat it according to its determination. Further instructions and disclaimers related to the disclosure, identification, and handling of proprietary or otherwise confidential business information, as well as the full Freedom of Information Act disclosure, can be found in the RFI [DE-FOA-0002833], available at https://eere-exchange.energy.gov/.

To the extent that the Federal Register Notice conflicts with or otherwise contradicts the guidelines set forth in the RFI, the language in the RFI is controlling and should be followed

Signing Authority: This document of the Department of Energy was signed on August 31, 2022, by David Howell, Acting Director and Principal Deputy Director of the Office of Manufacturing and Energy Supply Chains and Director of the Vehicle Technologies Office, Office of Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 8, 2022.
Treena V. Garrett,
Federal Register Liaison Officer, U.S. Department of Energy.

[FR Doc. 2022-19762 Filed 9-12-22; 8:45 am]

BILLING CODE 6450-01-P